DEPARTMENT OF LABOR

Employment and Training Administration

[TA-W-73,158; TA-W-73,158A]

Amended Certification Regarding Eligibility To Apply for Worker Adjustment Assistance

TA-W-73,158

Siemens Medical Solutions USA, Inc., Oncology Care Systems Division, Concord, CA

TA-W-73,158A

Siemens Medical Solutions USA, Inc., Global Services/Supply Chain Management, Malvern, PA

In accordance with Section 223 of the Trade Act of 1974, as amended (“Act”), 19 U.S.C. 2273, the Department of Labor (Department) issued a Certification of Eligibility to Apply for Worker Adjustment Assistance on March 11, 2010, applicable to workers and former workers of Siemens Medical Solutions USA, Inc. (Seimens), Oncology Care Systems Division, Concord, California (subject firm). The workers are engaged in employment related to the supply of administrative services. The Department's Notice of determination was published in the Federal Register on April 23, 2010 (75 FR 21355).

At the request of workers, the Department reviewed the certification for workers of the subject firm.

New information provided by Seimens reveals that workers of Global Services/Supply Chain Management, Malvern, Pennsylvania, provided support to several Siemens facilities, including but not limited to, the Concord, California facility (TA-W-73,158). Global Services/Supply Chain Management, Malvern, Pennsylvania supplies information technology services (such as help desk, application development and support, and data center operations) in support of Seimens.

Based on these findings, the Department is amending the certification to include workers of the Global Services/Supply Chain Management, Malvern, Pennsylvania facility of Siemens Medical Solutions USA, Inc. (TA-W-73,158A). The worker group at the Malvern, Pennsylvania facility does not include on-site leased workers from temporary agencies.

The intent of the Department's certification is to include all workers of the subject firm who were adversely affected by a shift in services to Germany.

The amended notice applicable to TA-W-73,158 is hereby issued as follows:

All workers of Siemens Medical Solutions USA, Inc., Oncology Care Systems Division, Concord, California (TA-W-73,158) and Seimens Medical Solutions USA, Inc., Global Services/Supply Chain Management, Malvern, Pennsylvania (TA-W-73,158A), who became totally or partially separated from employment on or after December 22, 2008, through March 11, 2012, and all workers in the groups threatened with total or partial separation from employment on March 11, 2010 through two years from the date of certification, are eligible to apply for adjustment assistance under Chapter 2 of Title II of the Trade Act of 1974, as amended.

Signed in Washington, DC this 29th day of July, 2011.
Del Min Amy Chen,
Certifying Officer, Office of Trade Adjustment Assistance.

[FR Doc. 2011-20525 Filed 8-11-11; 8:45 am]

BILLING CODE 4510-FN-P